INTER-AMERICAN FOUNDATION

Sunshine Act Meetings

Time and Date: May 2, 2016, 9:00 a.m.-1:00 p.m.

Place: Inter-American Foundation, 1331 Pennsylvania Ave. NW., Suite 1200 North Building, Washington, DC 20004.

Status: Meeting of the Board of Directors, Open to the Public.

Matters To Be Considered:

Approval of the Minutes of the November 09, 2015, Meeting of the Board of Directors & Advisory Council

Welcome to new Board Members

Management Report

Processing Board Minutes

IAF's 50th Anniversary

Adjournment

Contact Person for More Information: Paul Zimmerman, General Counsel (202) 683-7118.

Paul Zimmerman,
General Counsel.

[FR Doc. 2016-09493 Filed 4-20-16; 11:15 am]

BILLING CODE 7025-01-P